DEPARTMENT OF ENERGY

Federal Energy Regulatory Commission

Combined Notice of Filings #1

March 6, 2008.

Take notice that the Commission has received the following Natural Gas Pipeline Rate and Refund Report filings:

Docket Numbers: RP06-540-006.

Applicants: High Island Offshore System, L.L.C.

Description: High Island Offshore System LLC submits the first annual report of non-routine expenditures pursuant to its O&M Agreement for calendar year 2007.

Filed Date: 03/03/2008.

Accession Number: 20080305-0340.

Comment Date: 5 p.m. Eastern Time on Monday, March 17, 2008.

Docket Numbers: RP07-525-003.

Applicants: Energy West Development, Inc.

Description: Energy West Development, Inc files notice that as of 9/1/07 it has been in compliance with Order 587-S and the NAESB standards approved by the Commission, and in compliance with the 8/10/07 Order.

Filed Date: 02/29/2008.

Accession Number: 20080305-0391.

Comment Date: 5 p.m. Eastern Time on Wednesday, March 12, 2008.

Docket Numbers: RP08-257-000.

Applicants: Saltville Gas Storage Company L.L.C.

Description: Saltville Gas Storage Company LLC's CD to its changes effective 4/1/08, in the rates and terms applicable to its various services etc (tab & asc files not loaded).

Filed Date: 03/04/2008.

Accession Number: 20080304-4002.

Comment Date: 5 p.m. Eastern Time on Monday, March 17, 2008.

Docket Numbers: RP08-258-000.

Applicants: KO Transmission Company.

Description: KO Transmission Company submits Twenty-third Revised Sheet 10 to its FERC Gas Tariff, Original Volume 1, to become effective April 1, 2008.

Filed Date: 03/03/2008.

Accession Number: 20080305-0339.

Comment Date: 5 p.m. Eastern Time on Monday, March 17, 2008.

Docket Numbers: RP08-259-000

Applicants: MOGAS PIPELINE LLC.

Description: MoGas Pipeline, LLC et al submits Substitute Original Sheet 1 et al to its FERC Gas Tariff, First Revised Volume 1, to become effective April 1, 2008.

Filed Date: 02/29/2008.

Accession Number: 20080305-0392.

Comment Date: 5. p.m Eastern Time on Wednesday, March 12, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.
Deputy Secretary.

[FR Doc. E8-5057 Filed 3-13-08; 8:45 am]

BILLING CODE 6717-01-P